DEPARTMENT OF COMMERCE

International Trade Administration

[A-583-827]

Static Random Access Memory Semiconductors from Taiwan: Notice of Court Decision and Suspension of Liquidation

Correction

In notice document 00-24954 on page 58263 in the issue of Thursday, September 28, 2000, the EFFECTIVE DATE: is corrected to read “September 28, 2000.”

[FR Doc. C0-24954 Filed 10-13-00; 8:45 am]

BILLING CODE 1505-01-D

DEPARTMENT OF TRANSPORTATION

Federal Aviation Administration

14 CFR Part 39

[Docket No. 2000-NE-38-AD; Amendment 39-11913; AD 2000-20-02]

Airworthiness Directives; General Electric Company CF6-50 Series Turbofan Engines

Correction

In rule document 00-24901, beginning on page 58645, in the issue of Monday, October 2, 2000, make the following correction:

§39.13 [Corrected]

1.On page 58646, in the second column, under the heading Initial Inspection of Stage 2 LPT Nozzle Lock Assemblies, in paragraph (a), the fourth line, “information” should read “Information”.

2. On page 58646, in the third column, under the heading Repetitive Inspection of Stage 2 LPT Nozzle Lock Assemblies, in paragraph (c), the fourth line, “information” should read “ Information”.

3. On page 58646, in the third column, in paragraph (d), the second line, “place” should read “replace”.

[FR Doc. C0-24901 Filed 10-13-00; 8:45 am]

BILLING CODE 1505-01-D